DEPARTMENT OF TRANSPORTATION

Surface Transportation Board

[STB Finance Docket No. 35172]

Iowa Northern Railway Company—Temporary Trackage Rights Exemption—Union Pacific Railroad Company

Union Pacific Railroad Company (UP), pursuant to a written trackage rights agreement entered into between UP and Iowa Northern Railway Company (Iowa Northern), has agreed to grant Iowa Northern overhead temporary trackage rights between milepost 81.5 and milepost 86.0 on UP's Cedar Rapids Industrial Lead in Cedar Rapids, IA, a distance of approximately 4.5 miles.¹

¹ An amendment was filed on August 8, 2008, referencing the correct mileage in this proceeding as 4.5 miles (in lieu of 4.9 miles as originally filed).

The transaction may be consummated on or after September 4, 2008, and the temporary trackage rights are intended to expire on May 31, 2009.² The purpose of the temporary trackage rights is to enable Iowa Northern to continue to provide interchange service between Iowa Northern and Cedar Rapids and Iowa City Railway (CIC), as a result of severe flooding and the resulting loss of CIC's railroad bridge over the Cedar River in Cedar Rapids.

² Although applicant states that the parties propose consummating the transaction on August 31, 2008, no consummation may take place under Board rules until September 4, 2008—the effective date of the exemption. See 49 CFR 1180.4(g).

As a condition to this exemption, any employees affected by the acquisition of the temporary trackage rights will be protected by the conditions imposed in Norfolk and Western Ry. Co.—Trackage Rights—BN, 354 I.C.C. 605 (1978), as modified in Mendocino Coast Ry., Inc.—Lease and Operate, 360 I.C.C. 653 (1980), and any employees affected by the discontinuance of those trackage rights will be protected by the conditions set out in Oregon Short Line R. Co.—Abandonment—Goshen, 360 I.C.C. 91 (1979).

Pursuant to the Consolidated Appropriations Act, 2008, Public Law No. 110-161, § 193, 121 Stat. 1844 (2007), nothing in this decision authorizes the following activities at any solid waste rail transfer facility: collecting, storing, or transferring solid waste outside of its original shipping container; or separating or processing solid waste (including baling, crushing, compacting, and shredding). The term “solid waste” is defined in section 1004 of the Solid Waste Disposal Act, 42 U.S.C. 6903.

This notice is filed under 49 CFR 1180.2(d)(8). If it contains false or misleading information, the exemption is void ab initio. Petitions to revoke the exemption under 49 U.S.C. 10502(d) may be filed at any time. The filing of a petition to revoke will not automatically stay the transaction. Petitions for stay must be filed no later than August 28, 2008 (at least 7 days before the exemption becomes effective).

An original and 10 copies of all pleadings, referring to STB Finance Docket No. 35172, must be filed with the Surface Transportation Board, 395 E Street, SW., Washington, DC 20423-0001. In addition, a copy of each pleading must be served on T. Scott Bannister, 305 Second Street Southeast, Suite 400, Cedar Rapids, IA 52401.

Board decisions and notices are available on our Web site at http://www.stb.dot.gov.

Decided: August 12, 2008.
By the Board, David M. Konschnik, Director, Office of Proceedings.
Anne K. Quinlan,
Acting Secretary.

[FR Doc. E8-19135 Filed 8-19-08; 8:45 am]

BILLING CODE 4915-01-P